DEPARTMENT OF THE INTERIOR

Bureau of Land Management

[LLCO912000-LL07770900.XX0000]

Notice of Public Meeting, Joint Colorado Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Northwest Colorado Resource Advisory Council (NWRAC), Southwest Resource Advisory Council (SWRAC), and Front Range Resource Advisory Council (FRRAC) will meet as indicated below.

DATES: The Northwest, Southwest and Front Range Colorado RACs have scheduled a joint meeting for February 24, 25, and 26, 2009.

ADDRESSES: The Joint Colorado RAC (JCRAC) meeting will be held February 24-26, 2009, at the Doubletree Hotel, 743 Horizon Drive, Grand Junction, CO. On February 24 the meeting will begin at 1 p.m. and adjourn at 5 p.m.; on February 25 the meeting will begin at 8 a.m. and adjourn at 4:45 p.m.; on February 26 the meeting will begin at 8 a.m. and adjourn at 12:15 p.m. A one-hour public comment period, from 8 a.m.-9 a.m., is scheduled for February 25.

FOR FURTHER INFORMATION CONTACT: Jim Sample, Public Affairs Specialist, BLM Colorado State Office, 2850 Youngfield St., Lakewood, CO, 80215, telephone 303-239-3861.

SUPPLEMENTARY INFORMATION: The Colorado RACs advise the Secretary of the Interior, through the BLM, on a variety of public land issues in Colorado.

Topics of discussion during the RAC meeting may include the BLM National Sage Grouse Conservation Strategy, working group reports, recreation, fire management, land use planning, invasive species management, energy and minerals management, travel management, wilderness, wild horse herd management, land exchange proposals, cultural resource management, and other issues as appropriate.

These meetings are open to the public. The public may present written comments to the RAC. Each formal RAC meeting will also have time, as identified above, allocated for hearing public comments. Depending on the number of persons wishing to comment and time available, the time for individual oral comments may be limited.

David Hunsaker,
Associate State Director.

[FR Doc. E9-3693 Filed 2-17-09; 4:15 pm]

BILLING CODE 4310-JA-P